LEGAL SERVICES CORPORATION

Sunshine Act Meeting of the Board of Directors Finance Committee; Amended Notice; Changes to the Agenda

The Legal Services Corporation (LSC) is announcing an amendment to the notice of the meeting of the Board of Directors Finance Committee (Committee). This meeting was announced in the Federal Register dated November 16, 2004, Volume 69, Number 220. The amendments are being made to reflect changes to the meeting Agenda. There are no other changes.

The amendments were authorized by a unanimous vote of the Board of Directors as indicated below.

Record of Votes
Member | Vote: Yes | Vote: No
Lillian BeVier | X |
Robert Dieter | X |
Thomas Fuentes | X |
Herbert Garten | X |
David Hall | X |
Michael McKay | X |
Thomas Meites | X |
Maria Luisa Mercado | X |
Frank Strickland | X |
Florentino Subia | X |
Ernestine Watlington | X |

Specifically, the following changes have been made to the agenda.

• The language at items 3 and 4 has been modified;

• A new item 5 has been added; and

• Items formerly numbered 5 through 10 are now numbered 6 through 11.

Time and Date: The Finance Committee of the Legal Services Corporation Board of Directors will meet November 20, 2004. The meeting will commence immediately following conclusion of the meeting of the Operations and Regulations Committee, the deliberations of which are anticipated to terminate at approximately 10 a.m. It is possible that the Committee meeting may convene earlier or later than expected, depending upon when the preceding committee concludes its business.

Location: Westin Cincinnati, 21 E. 5th Street, Cincinnati, Ohio.

Status of Meeting: Open.

Amended Agenda

Matters to be Considered:

Open Session

1. Approval of agenda.

2. Approval of the minutes of the Committee's meeting of September 10, 2004.

3. Consider and act on proposed revisions to LSC's Fiscal Year 2004 Consolidated Operating Budget.

4. Consider and act on proposed revisions to LSC's Fiscal Year 2005 Revised Temporary Operating Budget.

5. Consider and act on proposed revisions to LSC's Fiscal Year 2006 Appropriations request.

Closed Session

6. Briefing ¹ by the Inspector General on the budget of the Office of the Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

7. Briefing by management on implications of increasing coverage limits under LSC's Directors & Officers liability insurance policy.

Open Session

8. Consider and act on increasing the coverage limits under LSC's Directors & Officers liability insurance policy.

9. Consider and act on other business.

10. Public comment.

11. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: November 17, 2004.
Victor M. Fortuno,
Vice President, General Counsel & Corporate Secretary.

[FR Doc. 04-25829 Filed 11-17-04; 12:53 pm]

BILLING CODE 7050-01-P